FEDERAL COMMUNICATIONS COMMISSION

47 CFR Part 73

[DA 04-3444; MB Docket No. 04-378; RM-11079]

Radio Broadcasting Services; Lake Charles, LA and West Orange, TX

AGENCY: Federal Communications Commission.

ACTION: Proposed rule; dismissal.

SUMMARY: At the request of Apex Broadcasting, Inc., the Audio Division dismisses the petition for rule making proposing the reallotment of Channel 258C0 from Lake Charles, Louisiana to West Orange, Texas, and the modification of Station KBXG(FM)'s license accordingly. See 69 FR 60344, October 8, 2004. A showing of continuing interest is required before a channel will be allotted. It is the Commission's policy to refrain from making an allotment to a community absent an expression of interest. Therefore, we will grant the request to withdraw the instant proposal.

FOR FURTHER INFORMATION CONTACT: Sharon P. McDonald, Media Bureau, (202) 418-2180.

SUPPLEMENTARY INFORMATION: This is a synopsis of the Commission's Report and Order, MB Docket No. 04-378, adopted October 27, 2004, and released October 29, 2004. The full text of this Commission decision is available for inspection and copying during normal business hours in the FCC Reference Information Center (Room CY-A257), 445 12th Street, SW., Washington, DC. The complete text of this decision may also be purchased from the Commission's copy contractor, Best Copy and Printing, Inc., Portals II, 445 12th Street, SW., Room CY-B402, Washington, DC 20054, telephone 1-800-378-3160 or www.BCPIWEB.com. This document is not subject to the Congressional Review Act. (The Commission is, therefore, not required to submit a copy of this Report and Order to GAO, pursuant to the Congressional Review Act, see 5 U.S.C. 801(a)(1)(A) because the proposed rule was dismissed.)

Federal Communications Commission.
John A. Karousos,
Assistant Chief, Audio Division, Media Bureau.

[FR Doc. 04-25513 Filed 11-16-04; 8:45 am]

BILLING CODE 6712-01-P